DEPARTMENT OF THE INTERIOR

National Park Service

[NPS-WASO-NAGPRA-NPS0038349; PPWOCRADN0-PCU00RP14.R50000]

Notice of Inventory Completion: University of Tennessee, Department of Anthropology, Knoxville, TN

AGENCY: National Park Service, Interior.

ACTION: Notice.

SUMMARY: In accordance with the Native American Graves Protection and Repatriation Act (NAGPRA), the University of Tennessee, Department of Anthropology (UTK) has completed an inventory of human remains and associated funerary objects and has determined that there is a cultural affiliation between the human remains and associated funerary objects and Indian Tribes or Native Hawaiian organizations in this notice.

DATES: Repatriation of the human remains and associated funerary objects in this notice may occur on or after August 29, 2024.

ADDRESSES: Dr. Ellen Lofaro, University of Tennessee, Office of Repatriation, 5723 Middlebrook Pike, Knoxville, TN 37921-6053, telephone (865) 974-3370, email nagpra@utk.edu.

SUPPLEMENTARY INFORMATION: This notice is published as part of the National Park Service's administrative responsibilities under NAGPRA. The determinations in this notice are the sole responsibility of UTK, and additional information on the determinations in this notice, including the results of consultation, can be found in its inventory or related records. The National Park Service is not responsible for the determinations in this notice.

Abstract of Information Available

Human remains representing, at least, 24 individuals have been identified. The seven associated funerary objects are one lot of faunal remains, one lot of historic objects, one lot of ceramics, one lot of mica, one lot of lithics, one lot of botanicals, and one lot of shell. In September 2004, local children found the remains in a cave, (site 40AN236), in Anderson County, TN. Members of the Anderson County Sherriff's Department were called to investigate. The Sherriff's Department contacted the UTK Forensic Anthropology Center (FAC) for assistance in recovering the remains. The remains were removed in 2004 and housed at the FAC as case 04-23. In 2009, the remains were transferred to Dr. Nicholas Herrmann (formerly of UTK) at Mississippi State University. At an unknown date, the remains were returned to the FAC, where they remained until they were recently transferred to the UTK Office of Repatriation (OR). To our knowledge, no potentially hazardous substances were used to treat the remains or objects.

Human remains representing, at least, one individual have been identified. No associated funerary objects are present. On February 11, 2008, a person brought the remains (found in a cave on her property), to the Anderson County (Tennessee) Sherriff's Department. Investigators contacted the FAC, and on February 14, Nicholas Herrmann accompanied the investigators to the cave. Herrmann recorded multiple individuals within the cave, severely disturbed by looters. Except for the original remains brought to the Sherriff's Department, all the remains found in the cave were reburied on site by Herrmann after his examination. The original remains were examined by Herrmann, determined to be Native American, and were retained by the FAC as case 08-03. They remained at the FAC until they were recently transferred to the OR. To our knowledge, no potentially hazardous substances were used to treat the remains.

Human remains representing, at least, two individuals have been identified. No associated funerary objects are present. On October 6, 1981, a member of the Elizabethton Police Department contacted Dr. William Bass to inform him that remains had been disinterred by a backhoe during construction of a culvert in Elizabethton, Carter County, TN. The remains were sent to the FAC for examination and arrived at UTK on October 12, 1981. Patrick Willey examined the remains on October 22. They were determined to be Native American, and they were retained as case 81-22. They remained at the FAC until they were recently transferred to the OR. Some of the remains have been “repaired” using glue, but to our knowledge, no potentially hazardous substances were used to treat the remains.

Human remains representing, at least, one individual have been identified. No associated funerary objects are present. On March 17, 1991, the remains were found in a rock shelter in Eagan, Claiborne County, TN. On March 18, the Claiborne County Sherriff's Office called Bass at UTK for assistance. UTK graduate student Theresa Woltanski met a representative of the Sherriff's Office at the site and determined the remains were likely archaeological. The remains were brought to the FAC for examination, were determined to be Native American, and were retained as case 91-9. They remained at the FAC until they were recently transferred to the OR. To our knowledge, no potentially hazardous substances were used to treat the remains.

Human remains representing, at least, three individuals have been identified. The two associated funerary objects are one lot of faunal remains, and one lot of lithics. At an unknown date, these remains were removed from an unknown cave site in Tazewell, Claiborne County, TN, by an unknown party. On May 18, 1993, a Tennessee Bureau of Investigation (TBI) agent transferred the remains to the FAC for examination, and upon completion, they were determined to be Native American, and were retained as case 93-22. They remained at the FAC until they were recently transferred to the OR. Some of the remains were “repaired” using glue, and plaster is present on some of the remains. To our knowledge, no other substances, hazardous or other, were used to treat the remains.

Human remains representing, at least, one individual have been identified. The two associated funerary objects are one lot of faunal remains, and one lot of burial soil. At an unknown date, an unknown party removed the remains from a cave site in Claiborne County, TN. On February 26, 1996, the remains were transferred from the Claiborne County Sherriff's Office to the FAC for examination, and upon completion, they were determined to be Native American and were retained as case 96-8. They remained at the FAC until they were recently transferred to the OR. Some of the remains were “reconstructed” using glue, but to our knowledge, no potentially hazardous substances were used to treat the remains.

Human remains representing, at least, one individual have been identified. No associated funerary objects are present. On November 12, 1996, hunters found a wooden box containing the remains in the woods in Claiborne County, TN, and notified police. The Claiborne County Sherriff's Department contacted Bass at UTK for assistance, and they were transferred to the FAC the following day. Dr. Richard Jantz examined the remains, and determined they were likely Native American, and not of medico-legal concern (i.e., not a missing person or crime victim). The remains were retained as case 96-34, and they remained there until they were recently transferred to the OR. To our knowledge, no potentially hazardous substances were used to treat the remains.

Human remains representing, at least, one individual have been identified. No associated funerary objects are present. At an unknown date, around January 2005, these remains were removed from an unknown cave site in Fentress County, TN, by an unknown party. On January 24, 2005, these remains were delivered to Lee Meadows Jantz (of the FAC) by the Fentress County rescue squad. A team including Meadows Jantz returned to the cave on January 6, 2006, for further investigation. Other remains observed there were left in the cave. After examination of the site and the remains, Meadows Jantz determined the remains were Native American. The remains originally brought to the FAC were retained as case 05-37. They remained at the FAC until they were recently transferred to the OR. To our knowledge, no potentially hazardous substances were used to treat the remains.

Human remains representing, at least, one individual have been identified. No associated funerary objects are present. On November 20, 2006, a child digging in Fentress County, TN found the remains eroding from a bluff and alerted the police. The Fentress County Sherriff's Department transferred the remains to the FAC, where they were received on December 5, 2006. After examination was complete, the remains were determined to be Native American, and were retained as case 06-33. They remained at the FAC until they were recently transferred to the OR. To our knowledge, no potentially hazardous substances were used to treat the remains.

Human remains representing, at least, one individual have been identified. The two associated funerary objects are one lot of faunal remains, and one lot of charcoal. A man found the remains after entering a cave in Hawkins County, TN, in February 1988. He left them in place and contacted the Hawkins County Sherriff's Office. The Sherriff's Office contacted Bass on February 13, 1988. On February 15, FAC staff went to the cave and removed the remains. They searched for additional remains but found none. The remains were transferred to the FAC and assessed by Patrick Willey and Stephen Langdon. After the examination was complete, the remains were determined to be Native American, and were retained as case 88-3. To our knowledge, no potentially hazardous substances were used to treat the remains.

Human remains representing, at least, one individual have been identified. The one associated funerary object is one lot of lithics. On an unknown date, around June or July 1991, the remains were removed by an unknown party from a farm in Jackson County, TN. The remains were brought to the FAC by a TBI Special Agent, and a representative of the District Attorney's office on July 12, 1991. The remains were assessed by Bass' graduate students William Grant and Theresa Woltanski. After the examination was complete, the remains were determined to be Native American, and were retained as case 91-26. They remained at the FAC until they were recently transferred to the OR. To our knowledge, no potentially hazardous substances were used to treat the remains.

Human remains representing, at least, one individual have been identified. The two associated funerary objects are one lot of botanicals and one lot of faunal remains. These remains were removed from 40MC1, (Bugtussle Rockshelter), in Macon County, TN, on February 11, 1983. Looters uncovered the burial while digging at the site. This discovery came to the attention of the TBI. Once the remains were determined to from a Native American burial, a TBI agent contacted Bass at UTK. At Bass' request, the remains were transferred to the FAC. After Bass completed examination, the remains were assigned FAC case number 83-3, and housed at the McClung Museum of Natural History and Culture at UTK until they were recently transferred to the OR. To our knowledge, no potentially hazardous substances were used to treat the remains.

Human remains representing, at least, one individual have been identified. The one associated funerary object is one lot of faunal remains. These remains were reportedly found lying on the ground in Clarksville, Montgomery County, TN, on August 19, 1982, and given to the Clarksville Police Department. The remains were sent to the FAC around September 10, 1982, and were retained by the FAC as case 82-17. After examination, they were determined to be likely Native American. They remained at the FAC until they were recently transferred to the OR. To our knowledge, no potentially hazardous substances were used to treat the remains.

Human remains representing, at least, one individual have been identified. The one associated funerary object is one lot of faunal remains. On February 20, 1997, a TBI Special Agent contacted Bass about these remains, which had been found by construction workers under wooden pallets in an abandoned barn in Montgomery County, TN. Bass and two students accompanied the Agent and law enforcement officials to the scene and subsequently transferred the remains to the FAC for assessment. Once examined, they were determined to be Native American, and were retained as case 97-6. They remained at the FAC until they were recently transferred to the OR. At an unknown date, glue was used in an attempt to “reconstruct” some of the remains, but to our knowledge, no potentially hazardous substances were used to treat the remains.

Human remains representing, at least, two individuals have been identified. The two associated funerary objects are one lot of ceramics, and one lot of lithics. These individuals were found in September 2002, in a shed, near a barrel reportedly containing lithics and stone, on recently purchased property in Montgomery County, TN. The landowner gave the remains to someone else, who subsequently transferred them to Montgomery County law enforcement officials. The Montgomery County Sheriff's Office contacted FAC staff for assistance in determining the age and ethnicity of the individuals. After the FAC established that the remains were Native American in origin and not of medico-legal concern, the remains were retained by the FAC as case 02-39. They remained at the FAC until they were recently transferred to the OR. Glue is present on some of the remains, but to our knowledge, no potentially hazardous substances were used to treat the remains.

Human remains representing, at least, one individual have been identified. No associated funerary objects are present. The remains were reportedly found in a box in Livingston, Overton County, TN, in early 2004. The Livingston Police Department contacted the FAC for assistance on October 9, 2004. The remains were transferred by the department to the FAC on October 11, 2004. After the remains were identified as Native American and not of medico-legal concern the remains were retained as case 04-25. They remained at the FAC until they were recently transferred to the OR. To our knowledge, no potentially hazardous substances were used to treat the remains.

Human remains representing, at least, two individuals have been identified. The three lots of associated funerary objects are one lot of lithics, one lot of ceramics, and one lot of faunal remains. On an unknown date, around December 1982, these remains were found in a cave in Pickett County, TN. On December 30, 1982, an Assistant District Attorney (ADA) for the 5th Judicial District contacted Bass to inform him of the discovery. The following day the ADA delivered the remains to Bass' home for assessment. On January 8, 1983, Bass and a group of students returned to the cave to investigate. After the remains were examined, they were determined to be Native American, and were retained by the FAC as case 82-21. They remained at the FAC until they were recently transferred to the OR. To our knowledge, no potentially hazardous substances were used to treat the remains.

Human remains representing, at least, one individual have been identified. The one associated funerary object is one lot of an unknown fibrous material. The remains were found by highway workers in Putnam County, TN, and turned over to law enforcement officials. A representative of the Cookeville Police Department brought the remains to the FAC for examination on February 6, 2003. After the examination was complete, they were determined to be Native American, and were retained as case 03-03. They remained at the FAC until they were recently transferred to the OR. The remains appear to have possibly been treated with an unknown preservative.

Human remains representing, at least, four individuals have been identified. The one associated funerary object is one lot of faunal remains. At an unknown date, these remains were removed from a rockshelter in Scott County, TN by an unknown party. On April 2, 2001, FAC staff were contacted by a Scott County ADA. The remains were transferred to the FAC later that day, and additional remains were subsequently collected by law enforcement officials and FAC staff once the origin (the rockshelter) of the disturbed burial was identified. All the removed remains were examined by the FAC, determined to be Native American, and retained as case 01-22. They remained at the FAC until they were recently transferred to the OR. To our knowledge, no potentially hazardous substances were used to treat the remains.

Human remains representing, at least, one individual have been identified. No associated funerary objects are present. In July 1992, utility workers discovered the remains under a rock in Sumner County, TN, and alerted the police. On September 8, 1992, the Sumner County Sheriff's Department contacted Bass and sent the remains to the FAC on September 9. After the remains were examined, they were determined to be Native American and were retained as case 92-23. They remained at the FAC until they were recently transferred to the OR. To our knowledge, no potentially hazardous substances were used to treat the remains.

Human remains representing, at least, one individual have been identified. No associated funerary objects are present. These remains were recovered in October 1995 by a detective from the Sumner County Sherriff's Office during an investigation of a burglary in Sumner County, TN. The person from whose home the remains had been stolen stated that a friend of his had removed them from “an Indian burial ground” on his property 20-30 years before. The detective contacted Bass and Bass met the detective in Nashville on October 19, 1995, likely to pick up the remains and bring them back to Knoxville. Once Bass' report was complete (around October 31), the remains were determined to be Native American, and were retained by the FAC as case 95-26. They remained at the FAC until they were recently transferred to the OR. Glue is present on the remains, but to our knowledge, no potentially hazardous substances were used to treat the remains.

Human remains representing, at least, seven individuals have been identified. The two associated funerary objects are one lot of faunal remains, and one lot of stone. The remains were discovered by two boys digging in a cave north of Maynardville, Union County, TN, on November 23, 1980. The remains were brought to the FAC the following day by Union County Sheriff's Deputies for Bass to examine. After Bass' report was submitted to Union County officials on January 27, 1981, the remains were determined to be Native American, and were retained by as case 80-13. They remained at the FAC until they were recently transferred to the OR. To our knowledge, no potentially hazardous substances were used to treat the remains.

Anderson, Claiborne, Fentress, Hawkins, Jackson, Montgomery, Overton, Pickett, Putnam, Scott, Sumner, and Union Counties are part of the Ancestral Homelands of the Cherokee, as established in Treaties with the Cherokee, 1785, 1791, 1798, 1805. Historical information (Treaty of Sycamore Shoals) confirms that Carter and Macon Counties are also part of the Ancestral Homelands of the Cherokee.

Cultural Affiliation

Based on the information available and the results of consultation, cultural affiliation is reasonably identified by the geographical location or acquisition history of the human remains and associated funerary objects described in this notice.

Determinations

UTK has determined that:

• The human remains described in this notice represent the physical remains of 59 individuals of Native American ancestry.

• The 27 objects described in this notice are reasonably believed to have been placed intentionally with or near individual human remains at the time of death or later as part of the death rite or ceremony.

• There is a connection between the human remains and associated funerary objects described in this notice and the Cherokee Nation; Eastern Band of Cherokee Indians; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 29, 2024. If competing requests for repatriation are received, UTK must determine the most appropriate requestor prior to repatriation. Requests for joint repatriation of the human remains and associated funerary objects are considered a single request and not competing requests. UTK is responsible for sending a copy of this notice to the Indian Tribes and Native Hawaiian organizations identified in this notice.

Authority: Native American Graves Protection and Repatriation Act, 25 U.S.C. 3003, and the implementing regulations, 43 CFR 10.10.

Dated: July 17, 2024
Melanie O'Brien,
Manager, National NAGPRA Program.

[FR Doc. 2024-16705 Filed 7-29-24; 8:45 am]

BILLING CODE 4312-52-P